DEPARTMENT OF AGRICULTURE

Food and Nutrition Service

Agency Information Collection Activities; Proposed Collection; Comment Request: Supplemental Nutrition Assistance Program: State Agency Options

AGENCY: Food and Nutrition Service (FNS), USDA.

ACTION: Notice.

SUMMARY: In accordance with the Paperwork Reduction Act of 1995, this notice invites the general public and other public agencies to comment on the proposed collection. This is a revision of the currently approved burden for the Supplemental Nutrition Assistance Program (SNAP): State Agency Options information collection.

DATES: Written comments must be received on or before September 23, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including through the use of appropriate automated, electronic, mechanical or other technological collection techniques or other forms of information technology.

Comments may be sent to Angela Kline, Chief, Certification Policy Branch, Program Development Division, Food and Nutrition Service (FNS), U.S. Department of Agriculture, 3101 Park Center Drive, Room 812, Alexandria, VA 22302. Comments may also be faxed to the attention of Ms. Kline at (703) 305-2486, or via email to Angela.Kline@FNS.USDA.GOV.

Comments will also be accepted through the Federal eRulemaking Portal. Go to http://www.regulations.gov and follow the online instructions for submitting comments electronically.

All written comments will be open for public inspection at the FNS office at 3101 Park Center Drive, Alexandria, Virginia, 22302, Room 800, during regular business hours (8:30 a.m. to 5:00 p.m., Monday through Friday).

All responses to this notice will be summarized and included in the request for Office of Management and Budget (OMB) approval. All comments will be a matter of public record.

FOR FURTHER INFORMATION CONTACT: Requests for additional information or copies of this information collection should be directed to Ms. Kline at (703) 305-2495.

SUPPLEMENTARY INFORMATION: Title: Supplemental Nutrition Assistance Program: State Agency Options

OMB Number: 0584-0496

Form Number: None

Expiration Date: 11/30/2013

Type of Request: Revision of a currently approved information collection.

Abstract: The collections covered under OMB Number 0584-0496, address information and burden estimates associated with the following State Agency Options: Establishing and reviewing standard utility allowances and establishing methodology for offsetting cost of producing self-employment income.

This notice revises the State Agency Options information collection for the Supplemental Nutrition Assistance Program (SNAP) to reflect changes in the number of States that have implemented the options herein and the change in burden since the previous revision. Federal regulations implementing SNAP application and certification procedures are contained in Parts 271, 272 and 273 of Title 7 of the Code of Federal Regulations (CFR). The regulations addressing State agency options specified in this collection are contained in 7 CFR part 273.

The last two revisions of this collection extended the collection burden to account for changes required by the Farm Security and Rural Investment Act of 2002 (FSRIA) proposed and final rules. The Food, Conservation and Energy Act of 2008 (FCEA) made no changes to this collection. However, since the last renewal, there have been changes in the number of states that take the options in this collection. This collection revises the number of State agencies that have implemented the options herein as well as the burden associated with the collection.

Establishing and Reviewing Standard Utility Allowances

The regulations at 7 CFR 273.9(d)(6)(iii) allow State agencies to establish standard utility allowances (SUA) in place of the actual utility costs incurred by a household. State agencies are required to review and adjust SUAs annually to reflect changes in the costs of utilities. State agencies are required to submit the amounts of standards when they are changed and methodologies used to develop and update the standards to FNS for approval when they are developed or changed.

Estimates of burden: Currently, 50 State agencies have a standard that includes heating or cooling costs and 40 have a standard for utility costs other than heating or cooling. In addition, 52 State agencies have a telephone allowance standard. We estimate 52 State agencies will submit one request to adjust the SUAs, for a total annual response of 52 requests at a minimum of 2.5 hours annually (52 State agencies × 1 SUAs request = 52 total annual responses × 2.5 hours = 130 hours). Total burden for this provision is estimated to be 130 hours per year. This burden activity remains unchanged from the previous submission.

Self-employment Costs

The regulations at 7 CFR 273.11(b) allow self-employment income to be reduced by the cost of producing such income. The regulations allow the State agencies, with approval from FNS, to establish the methodology for offsetting the costs of producing self-employment income, as long as the procedure does not increase program costs.

Estimates of burden: Based on the information provided in the Tenth Edition of the SNAP State Options Report, 18 State agencies have incorporated a methodology for determining the cost of doing business in self-employment cases. This is an increase from ten states in the 2010 information collection. It is estimated that these 18 States will submit one request, totaling 18 annual responses. States will incur a burden of at least 10 working hours gathering and analyzing data, developing the methodology, determining the cost implication and submitting a request to FNS, for a total burden of 180 hours annually (18 State agencies × 1 request = 18 total annual responses × 10 working hours = 180 burden hours). This is an increase of 80 burden hours from the previous submission.

Record Keeping Burden Only

All 53 State agencies are required to keep and maintain one record of the information gathered and submitted to FNS for the SUA and self-employment options. It is estimated that this process will take 7 minutes or .1169 hours per year for each State agency, resulting in a total annual burden of 6 hours (53 State agencies × 1 record = 53 total annual records × .1169 hours = 6 hours). This burden remains unchanged from the previous submission.

The following table illustrates the burden estimates associated with the State agency options included in this collection.

BILLING CODE 3410-30-P

Estimated Annual Burden Summary for Reporting and Recordkeeping:

Affected Public: State agencies and local governments administering SNAP.

Estimated Number of Respondents: 53

Estimated Annual Reports/Records Filed Per Respondent: 2.32

Estimated Total Annual Responses: 123

Estimated Burden Hours per Response: 2.57

Estimated Total Burden Hours: 316

Dated: July 11, 2013.
Audrey Rowe,
Administrator, Food and Nutrition Service.

[FR Doc. 2013-17558 Filed 7-22-13; 8:45 am]

BILLING CODE 3410-30-C